DEPARTMENT OF THE INTERIOR

Fish and Wildlife Service

[FWS-R8-ES-2010-N186; 1112-0000-81420-F2]

Habitat Conservation Plan for Pacific Gas & Electric Company's Operation, Maintenance, and Minor New Construction Activities in the North Coast, Central Coast, Sacramento Valley, Sierra, and Mojave Regions, CA

AGENCY: Fish and Wildlife Service, Interior.

ACTION: Revised notice of intent to prepare an environmental impact statement and notice of public scoping meeting.

SUMMARY: We, the U.S. Fish and Wildlife Service (Service), intend to prepare an environmental impact statement (EIS) under the National Environmental Policy Act (NEPA) regarding an expected application from Pacific Gas & Electric Company (PG&E) for a permit authorizing incidental take of Federally listed species under the Endangered Species Act of 1973, as amended (ESA).We are revising our previous notice of intent (NOI) of November 2008 in order to gather information necessary to prepare a joint EIS/environmental impact report (EIR) on the habitat conservation plan (HCP) for PG&E's operation, maintenance, and minor new construction activities in the North Coast, Central Coast, Sacramento Valley, and Sierra regions.

DATES: Please send written comments on or before November 29, 2010. A public meeting will be held on Wednesday, November 17, 2010, 1 p.m. to 3 p.m., Sacramento, CA.

ADDRESSES: The public meeting will be held at the South Notamas Community Center—Conference Room, 2921 Truxel Road, Sacramento, CA. Submit information, written comments, or questions related to the preparation of the EIS/EIR and NEPA process by U.S. mail to Mike Thomas, Branch Chief, Conservation Planning, U.S. Fish and Wildlife Service, Sacramento Fish and Wildlife Office, 2800 Cottage Way, W-2605, Sacramento, CA 95825; or by facsimile to (916) 414-6713.

FOR FURTHER INFORMATION CONTACT: Mike Thomas, Branch Chief, Conservation Planning; or Eric Tattersall, Deputy Assistant Field Supervisor/Division Chief, Conservation Planning and Recovery, at the address above or at (916) 414-6600 (telephone).

SUPPLEMENTARY INFORMATION: We intend to prepare an EIS under NEPA regarding an expected application from PG&E for a permit authorizing incidental take of Federally listed species under the ESA. We are revising our previously published NOI (November 25, 2008; 73 FR 71668) to gather information necessary to prepare, in coordination with the California Department of Fish and Game (CDFG) and PG&E, a joint EIS/EIR on the HCP for PG&E's operation, maintenance, and minor new construction activities in the North Coast, Central Coast, Sacramento Valley, and Sierra regions. This revised notice describes the two main changes to the proposed action, which are the addition of the Mojave Region (Figure 1) to the study area and a change in proposed covered species list (Table 1).

We are providing this notice to: (1) Describe revisions to the proposed action; (2) update other Federal and State agencies, affected Tribes, and the public of the revised scope of the environmental review for this EIS/EIR; (3) announce the initiation of a new public scoping period; and (4) obtain suggestions and information on the scope of issues and alternatives to be included in the EIS/EIR.

The following table (Table 1) shows the changes by status and number of proposed covered species for which PG&E is anticipating requesting a permit:

Table 1—Changes in Proposed Covered Species
Species category | Numbers of species: November 2008 | Numbers of species: Revised
Federally listed as threatened or endangered | 75 | 85
Candidates | 0 | 4
Unlisted species that may become listed during permit term | 34 | 91
Total numbers of species | 109 | 180

Background Information

The 2008 NOI specified that the plan area encompassed approximately 550,000 acres, including the right of way surrounding PG&E's gas and electric transmission and distribution facilities, lands owned by PG&E and/or subject to PG&E easements for these facilities, private access routes associated with PG&E's activities, future minor new construction areas, and mitigation areas for impacts resulting from PG&E's covered activities. The plan area included the network of PG&E facilities in 36 counties, including 18 counties within the Sacramento Valley Region, 20 counties within the Sierra Region (of which 12 overlap with the Sacramento Valley), 6 counties within the Central Coast Region, and 4 counties within the North Coast Region (of which 1 overlaps with the Sacramento Valley). PG&E originally intended to request a permit for 109 species under the HCP: 75 Federally listed and 34 unlisted species (covered species). We anticipated that PG&E would request a permit duration of 50 years. We held a public scoping meeting and Web conference in Sacramento, California, on December 4, 2008. We received public and agency comments through December 26, 2008.

Revisions to Project/Proposed Action

PG&E proposes to add approximately 23,000 acres to the plan area with the inclusion of the Mojave Region, which would increase the total plan area to approximately 573,000 acres in 36 counties. Within the 23,000 acres of the Mohave Region, PG&E proposes to implement operations and maintenance activities along an existing gas transmission line, which stretches from central Kern County to eastern San Bernardino County. A map of the new region to be added is attached (see Figure 1). Activities that may be covered under the HCP in the Mojave Region include a variety of tasks associated with the operation and maintenance of PG&E's gas transmission system, as mandated for public safety by the California Public Utilities Commission, the California Energy Commission, and the California Department of Transportation. More specifically, these activities would be restricted to: Gas pipeline protection, recoating, repair, and replacement, and vegetation management to maintain clearances around facilities. Preliminary analysis conducted by PG&E to date suggests that up to 5 acres of permanent impacts and 555 acres of temporary impacts are likely to occur as a result of proposed covered activities in the Mojave Region over a 50-year timeframe.

Because some species were inadvertently omitted from the original NOI and the present addition of the Mojave Region to the proposed action, PG&E added 71 species to the proposed covered species list since the 2008 NOI. The proposed covered species list has increased from a total of 109 species to 180 species. The 180 species PG&E currently proposes to address in the HCP include 57 animal species and 123 plant species (Table 2). Additional changes to the proposed covered species list may occur during the development of the HCP.

TABLE 2—Revised Proposed Covered Species List
Scientific name | Common name | Federal Status
Invertebrates:
Branchinectaconservatio | Conservancy fairy shrimp | E
Branchinectalongiantenna | Longhorn fairy shrimp | E
Branchinectalynchi | Vernal pool fairy shrimp | T
Branchinectamesovallensis | Midvalley fairy shrimp | —
Desmoceruscalifornicusdimorphus | Valley elderberry longhorn beetle | T
Euphilotesenoptessmithi | Smith's blue butterfly | E
Euproserpinuseuterpe | Kern primrose sphinx moth | T
Helminthoglyptawalkeriana | Morro shoulderband | E
Lepiduruspackardi | Vernal pool tadpole shrimp | E
Lycaeidesargyrognomonlotis | Lotis blue butterfly | E
Pacifastacusfortis | Shasta crayfish | E
Polyphyllabarbata | Mount Hermon (=barbate) june beetle | E
Speyeriazerenebehrensii | Behren's silverspot butterfly | E
Trimerotropisinfantilis | Zayante band-winged grasshopper | E
Amphibians:
Ambystomacaliforniense | California tiger salamander—Central Distinct Population Segment | T
Ambystomacaliforniense | California tiger salamander—Santa Barbara County Distinct Population Segment | E
Ambystomamacrodactylumcroceum | Santa Cruz long-toed salamander | E
Anaxyruscalifornicus | Arroyo toad | E
Batrachosepsstebbinsi | Tehachapi slender salamander | —
Bufocanorus | Yosemite toad | C
Hydromantesshastae | Shasta salamander | —
Ranaboylii | Foothill yellow-legged frog | —
Ranadraytonii | California red-legged frog | T
Ranamuscosa | Southern mountain (=Sierra Madre) yellow-legged frog | E
Ranasierrae | Sierra Nevada yellow-legged frog | C
Rhyacotritonvariegatus | Southern torrent salamander | —
Scaphiopushammondi | Western spadefoot toad | —
Reptiles:
Emys(=Clemmys)marmorata | Western pond turtle | —
Gambeliasila | Blunt-nosed leopard lizard | E
Gopherusagassizii | Desert tortoise | T
Thamnophisgigas | Giant garter snake | T
Thamnophissirtalistetrataenia | San Francisco garter snake | E
Birds:
Agelaius tricolor | Tricolored blackbird | —
Aquila chrysaetos | Golden eagle | —
Athenecunicularia | Western burrowing owl | —
Brachyramphusmarmoratus | Marbled murrelet | T
Buteoswainsoni | Swainson's hawk | —
Coccyzusamericanusoccidentalis | Western yellow-billed cuckoo | C
Empidonaxtraillii | Willow flycatcher | —
Empidonaxtrailliiextimus | Southwestern willow flycatcher (CA) | E
Falco peregrinusanatum | American peregrine falcon | —
Gruscanadensistabida | Greater sandhill crane | —
Haliaeetusleucocephalus | Bald eagle | —
Laterallusjamaicensiscoturniculus | Black rail (CA) | —
Prognesubis | Purple martin | —
Strixnebulosa | Great gray owl | —
Strixoccidentaliscaurina | Northern spotted owl | T
Vireo belliipusillus | Least Bell's vireo | E
Mammals:
Ammospermophilus nelson | Nelson's antelope squirrel | —
Aplodontiarufaniger | Point Arena mountain beaver | E
Dipodomysingens | Giant kangaroo rat | E
Dipodomysnitratoidesnitratoides | Tipton kangaroo rat | E
Martesamericanahumboldtensis | Humboldt marten | —
Martespennanti | Fisher—west coast Distinct Population Segment | C
Vulpesmacrotismutica | San Joaquin kit fox | E
Vulpesvulpesnecator | Sierra Nevada red fox | —
Xerospermophilusmohavensis | Mohave ground squirrel | —
Plants:
Abroniaumbellata ssp. breviflora | Pink sand-verbena | —
Ancistrocarphuskeilii | Santa Ynezgroundstar | —
Arabisconstancei | Constance's rock cress | —
Arctostaphyloshookeri ssp. hearstiorum | Hearst's manzanita | —
Arctostaphylosmorroensis | Morro manzanita | T
Arctostaphylosmyrtifolia | Ione manzanita | T
Arctostaphylospajaroensis | Pajaromanzanita | —
Arctostaphylospurissima | La Purisimamanzanita | —
Arctostaphylosstanfordiana ssp. raichei | Raiche's manzanita | —
Arctostaphylostomentosa ssp. daciticola | Dacitemanzanita | —
Arctostaphyloswellsii | Wells' manzanita | —
Astragalusagnicidus | Humboldt milk-vetch | —
Astragalusalbens | Cushenbury milk-vetch | E
Astragalustener var. ferrisiae | Ferris' milk-vetch | —
Atriplexparishii | Parish's brittlescale | —
Bensoniellaoregona | Bensoniella | —
California macrophylla | Round-leaved filaree | —
Calycadeniavillosa | Dwarf calycadenia | —
Calystegiastebbinsii | Stebbins' morning-glory | E
Camissoniabenitensis | San Benito evening-primrose | T
Carpenteriacalifornica | Tree-anemone | —
Caulanthuscalifornicus | California jewel-flower | E
Ceanothusconfusus | Rincon Ridge ceanothus | —
Ceanothusmaritimus | Maritime ceanothus | —
Ceanothusroderickii | Pine Hill ceanothus | E
Chamaesycehooveri | Hoover's spurge | T
Chlorogalumpurpureum var. purpureum | Purple amole | T
Chorizanthehowellii | Howell's spineflower | E
Chorizanthepungens var. hartwegiana | Ben Lomond spineflower | E
Chorizanthepungens var. pungens | Monterey spineflower | T
Chorizantherobusta var. robusta | Robust spineflower | E
Cirsiumfontinale var.obispoense | San Luis Obispo fountain thistle | E
Cirsiumrhothophilum | Surf thistle | —
Clarkia amoena ssp. whitneyi | Whitney's farewell-to-spring | —
Clarkia borealis ssp. arida | Shasta clarkia | —
Clarkia mosquinii | Mosquin's clarkia | —
Clarkia speciosa ssp. immaculata | Pismo clarkia | E
Cordylanthusmollis ssp. hispidus | Hispid bird's-beak | —
Cordylanthuspalmatus | Palmate-bracted bird's-beak | E
Cordylanthusrigidus ssp. littoralis | Seaside bird's-beak | —
Cryptanthaclevelandii var. dissita | Serpentine cryptantha | —
Cupressusabramsiana | Santa Cruz cypress | E
Cupressusgoveniana ssp. goveniana | Gowen cypress | T
Deinandrahalliana | Hall's tarplant | —
Dithyreamaritima | Beach spectaclepod | —
Dudleyablochmaniae ssp. blochmaniae | Blochman's dudleya | —
Eriastrumtracyi | Tracy's eriastrum | —
Ericameriafasciculata | Eastwood's goldenbush | —
Erigeron parishii | Parish's daisy | T
Eriodictyoncapitatum | Lompoc yerba santa | E
Eriogonumapricum var. apricum | Ione buckwheat | E
Eriogonumnudum var. decurrens | Ben Lomond buckwheat | —
Eryngiumaristulatum var. hooveri | Hoover's button-celery | —
Eryngiumconstancei | Loch Lomond button-celery | E
Eryngiumracemosum | Delta button-celery | —
Erysimummenziesii ssp. eurekense | Humboldt Bay wallflower | E
Erysimummenziesii ssp. menziesii | Menzies' wallflower | E
Erysimumteretifolium | Santa Cruz wallflower | E
Eschscholziarhombipetala | Diamond-petaled California poppy | —
Fremontodendrondecumbens | Pine Hill flannelbush | E
Fritillariaroderickii | Roderick's fritillary | —
Galiumcalifornicum ssp. sierrae | El Dorado bedstraw | E
Giliatenuiflora ssp. arenaria | Sand gilia | E
Gratiolaheterosepala | Boggs Lake hedge-hyssop | —
Guggolz' harmonia | Harmoniaguggolziorum | —
Holocarphamacradenia | Santa Cruz tarplant | T
Horkeliacuneata ssp. puberula | Mesa horkelia | —
Horkeliacuneata ssp. sericea | Kellogg's horkelia | —
Juncusleiospermus var. leiospermus | Red Bluff dwarf rush | —
Lastheniaburkei | Burke's goldfields | E
Lastheniaconjugens | Contra Costa goldfields | E
Lastheniaglabrata ssp. coulteri | Coulter's goldfields | —
Layiacarnosa | Beach layia | E
Layiadiscoidea | Rayless layia | —
Layiaheterotricha | Pale-yellow layia | —
Legenerelimosa | Legenere | —
Lilaeopsismasonii | Mason's lilaeopsis | —
Liliummaritimum | Coast lily | —
Liliumoccidentale | Western lily | E
Limnanthesbakeri | Baker's meadowfoam | —
Limnanthesfloccosa ssp. californica | Butte County meadowfoam | E
Lomatiumstebbinsii | Stebbins' lomatium | —
Lotus rubriflorus | Red-flowered lotus | —
Lupinus milo-bakeri | Milo Baker's lupine | —
Lupinusnipomensis | Nipomo Mesa lupine | E
Lupinustidestromii | Tidestrom's lupine | E
Madiaradiata | Showy madia | —
Malacothamnusabbottii | Abbott's bush mallow | —
Monardelladouglasii ssp. venosa | Veiny monardella | —
Monolopiacongdonii | San Joaquin woollythreads | E
Navarretialeucocephala ssp. bakeri | Baker's navarretia | —
Navarretialeucocephala ssp. pauciflora | Few-flowered navarretia | E
Navarretialeucocephala ssp. plieantha | Many-flowered navarretia | E
Navarretiamyersii ssp. deminuta | Small pincushion navarretia | —
Navarretiamyersii ssp. myersii | Pincushion navarretia | —
Navarretiaprostrata | Prostrate navarretia | —
Oenotheradeltoidesssp. howellii | Antioch Dunes evening-primrose | E
Oenotherawolfii | Wolf's evening-primrose | —
Orcuttiapilosa | Hairy orcutt grass | E
Orcuttiatenuis | Slender orcutt grass | T
Orcuttiaviscida | Sacramento orcutt grass | E
Packeralayneae | Layne's ragwort | T
Paronychia ahartii | Ahart's paronychia | —
Pentachaetabellidiflora | White-rayed pentachaeta | E
Pinusradiata | Monterey pine | —
Piperiayadonii | Yadon's rein orchid | E
Pleuropogonhooverianus | North Coast semaphore grass | —
Polygonumhickmanii | Scotts Valley polygonum | E
Pseudobahiabahiifolia | Hartweg's golden sunburst | E
Puccinelliahowellii | Howell's alkali grass | —
Rhynchosporacalifornica | California beaked-rush | —
Saniculamaritima | Adobe sanicle | —
Sedellaleiocarpa | Lake County stonecrop | E
Sidalceahickmanii ssp. anomala | Cuesta Pass checkerbloom | —
Styloclinemasonii | Mason's neststraw | —
Suaedacalifornica | California seablite | E
Thlaspicalifornicum (=Noccaeafendleri ssp. californicum) | Kneeland Prairie pennycress | E
Trifoliumbuckwestiorum | Santa Cruz clover | —
Trifoliumpolyodon | Pacific Grove clover | —
Trifoliumtrichocalyx | Monterey clover | E
Tropidocarpumcapparideum | Caper-fruited tropidocarpum | —
Tuctoriagreenei | Greene's tuctoria | E
Verbena californica | California vervain | T
E = Federally listed as Endangered.
T = Federally listed as Threatened.
C = Federal candidate species.
— = no Federal listing status.

Comments

Please direct any comments to the Service contact listed in the ADDRESSES section, and any questions to the Service contacts listed in the FOR FURTHER INFORMATION CONTACT section. All comments and materials we receive, including names and addresses, will become part of the administrative record and may be released to the public. Before including your address, phone number, e-mail address, or other personal identifying information in your comment, you should be aware that your entire comment—including your personal identifying information—may be made publicly available at any time. While you can ask us in your comment to withhold your personal identifying information from public review, we cannot guarantee that we will be able to do so.

Reasonable Accommodation

Persons needing reasonable accommodations in order to attend and participate in the public meeting should contact Mike Thomas at 916-414-6600 as soon as possible. In order to allow sufficient time to process requests, please call no later than 1 week before the public meeting. Information regarding this proposed action is available in alternative formats upon request. Persons needing reasonable accommodations in order to view the proposed action should contact Mike Thomas at (916) 414-6600 as soon as possible.

Authority: This notice is provided under Section 10(a) of the Act and Service regulations for implementing NEPA (40 CFR 1506.6).

Dated: October 22, 2010.
Alexander Pitts,
Deputy Regional Director, Pacific Southwest Region, Sacramento, California.

BILLING CODE 4310-55-P

[FR Doc. 2010-27338 Filed 10-28-10; 8:45 am]

BILLING CODE 4310-55-C